Title 3—

The President

Proclamation 8523 of May 20, 2010

National Hurricane Preparedness Week, 2010

By the President of the United States of America

A Proclamation

Each year during hurricane season, Americans living in our coastal and inland communities face the danger of these powerful storms. From high winds and storm surges to tornadoes and flooding, the hazards of hurricanes can destroy communities and devastate lives, and we must aggressively prepare our shores and protect our families.

During National Hurricane Preparedness Week, I urge individuals, families, communities, and businesses to take time to plan for the storm season before it begins. While hurricane forecasting has improved, storms may still develop with little warning. For Americans in hurricane-threatened areas, knowledge and preparation are pivotal to ensure emergency readiness and responsiveness. The National Hurricane Center at the National Oceanic and Atmospheric Administration, as well as the Federal Emergency Management Agency, recommend taking several important steps to ensure safety. These precautions include: developing a family disaster plan; maintaining an emergency supply kit; securing homes, businesses, and belongings; and learning evacuation routes.

I urge those in hurricane-threatened areas to visit www.Hurricanes.gov/Prepare to learn more about what they can do to protect themselves and their property from hurricanes. Emergency preparation resources for hurricanes and other natural disasters are also available at: www.Ready.gov.

To help Americans meet the challenges of severe weather, my Administration is focusing on preparedness and response—before, during, and after hurricanes. We are improving accountability and coordination between all levels of government, modernizing our emergency communications, and empowering more families to prepare themselves. Thanks to advancements in hurricane forecasting and tracking, the National Hurricane Center is working to give citizens more notice before impending storms. With the right planning and preparation, we can safeguard lives, protect property, and enhance America’s resilience to national weather emergencies.

NOW, THEREFORE, I, BARACK OBAMA, President of the United States of America, by virtue of the authority vested in me by the Constitution and the laws of the United States, do hereby proclaim May 23 through May 29, 2010, as National Hurricane Preparedness Week. I call upon all Americans, especially those in hurricane-prone areas, to learn more about protecting themselves against hurricanes and to work together to respond to them.

IN WITNESS WHEREOF, I have hereunto set my hand this twentieth day of May, in the year of our Lord two thousand ten, and of the Independence of the United States of America the two hundred and thirty-fourth.

[FR Doc. 2010-12753

Filed 5-25-10; 8:45 am]

Billing code 3195-W0-P